DEPARTMENT OF AGRICULTURE

Food and Nutrition Service

7 CFR Part 226

RIN 0584-AD69

Child and Adult Care Food Program: Permanent Agreements for Day Care Home Providers; Confirmation of Effective Date

AGENCY: Food and Nutrition Service, USDA.

ACTION: Final rule; confirmation of effective date.

SUMMARY: The provisions of the final rule entitled Permanent Agreements for Day Care Home Providers published on June 15, 2005 at 70 FR 34630 could not become effective until approval of the associated information collection requirements by the Office of Management and Budget (OMB). Those requirements were cleared by OMB on August 18, 2005 under OMB Control Number 0584-0055. This document announces the effective date of the provisions contained in the originally-published rule.

DATES: The amendments to 226.6(p) and 226.18(b), published in the Federal Register on June 15, 2005, at 70 FR 34630, are effective as of August 18, 2005.

FOR FURTHER INFORMATION CONTACT: Keith Churchill, Section Chief, Policy and Program Development Branch, Child Nutrition Division, Food and Nutrition Service, USDA, 3101 Park Center Drive, Alexandria, VA 22302, phone (703) 305-2590.

Dated: November 17, 2005.
Roberto Salazar,
Administrator.

[FR Doc. 05-23578 Filed 12-2-05; 8:45 am]

BILLING CODE 3410-30-P